DEPARTMENT OF DEFENSE

Reinstatement of Small Business Set-Asides and Unrestricted Competition for Certain Acquisitions Under the Small Business Competitiveness Demonstration Program

AGENCY: Department of Defense (DoD).

ACTION: Notice of reinstatement of small business set-asides and unrestricted competition under the Small Business Competitiveness Demonstration Program.

SUMMARY: The Director of Defense Procurement has reinstated the use of small business set-aside procedures for certain non-nuclear ship repair acquisitions conducted by the Department of the Navy. Included in the reinstatement are solicitations issued under North American Industry Classification System (NAICS) Code 336611, Federal Service Code (FSC) J999 for the West Coast only. The Director of Defense Procurement has also reinstated the use of unrestricted competition for construction acquisitions in solicitations issued under NAICS Subsector 234 by the Departments of the Army and Navy and NAICS Code 23591 for the Department of the Navy.

EFFECTIVE DATE: August 13, 2001.

FOR FURTHER INFORMATION CONTACT: Mr. Tim J. Foreman, OUSD(AT&L), Deputy Director, Office of Small & Disadvantaged Business Utilization, 1777 North Kent Street, Rosslyn Plaza North, Suite 9100, Arlington, VA 22209; telephone (703) 588-8611.

SUPPLEMENTARY INFORMATION: The Office of Federal Procurement Policy and the Small Business Administration issued a final policy directive and implementation plan on June 2, 1999, for the Small Business Competitiveness Demonstration Program. The Program is further implemented in Subpart 19.10 of the Federal Acquisition Regulation (FAR) and Subpart 219.10 of the Defense FAR Supplement (DFARS).

Under the Program, small business set-asides were initially suspended for certain designated industry groups (DIGs) for certain participating agencies. The final policy directive and implementation plan, paragraph III.D.2.a. and IV.A.3., requires participating agencies to reinstate the use of small business set-asides whenever the small business awards under any DIG (to include Major Groups or Subsectors within Construction and East and West Coast Non-Nuclear Ship Repair) fall below 40 percent, or whenever small business awards under certain individual codes within the Construction and Architectural & Engineering Services DIGs fall below 35 percent. Reinstatement is to be limited to the organizational element that failed to meet the small business participation goals.

Participating agencies are required by paragraph III.D.2.b. and IV.A.3. of the final policy directive and implementation plan to reinstate the use of unrestricted competition upon determining, after an annual review, that their contract awards to small business concerns again meet the required goals. Accordingly, this notice is issued to reflect the results of small business participation in the DoD procurement data during Fiscal Year 2000 and supercedes the directives in the Director of Defense Procurement memorandum dated December 11, 1998 (63 FR 71272, December 24, 1998).

For the 12 months ending September 2000, DoD fell below the 40 percent goal in acquisitions under Standard Industrial Classification (SIC) Code 3731, FSC J999, for non-nuclear ship repairs on the West Coast. Effective October 1, 2000, the North American Industry Classification System (NAICS) Subsectors and Codes were substituted for SIC Major Groups and SIC Codes. Accordingly, pursuant to DFARS 219.1007(b)(1), the Director of Defense Procurement has directed the reinstatement of small business set-aside procedures in accordance with FAR Subpart 19.5 for all solicitations issued on or after August 13, 2001, or as soon thereafter as practicable, for:

Non-Nuclear Ship Repair, NAICS Code 336611, FSC J999—All Navy Activities

The Department-wide reinstatement of small business set-aside procedures for the Architectural & Engineering Services DIG remains in effect. Also, the emerging small business reserve amount of $50,000 for Architectural & Engineering Services remains in effect.

For the 12 months ending September 2000, DoD accomplished the 40 percent goal for participation of small businesses in construction acquisitions awarded under SIC Major Groups 16 and 17 (SIC Major Groups 16 and 17 are now referred to as NAICS Subsectors 234 and 235, respectively). DoD also exceeded the required 35 percent goal in all subcategories of SIC Major Group 17 (NAICS Subsector 235), including SIC Code 1791 (NAICS Code 23591). Accordingly, the Director of Defense Procurement has directed the reinstatement of unrestricted competition for all solicitations issued on or after August 13, 2001, or as soon thereafter as practicable, for:

Construction, NAICS Subsector 234—All Army and Navy Activities

Construction, NAICS Code 23591—All Navy Activities

To summarize, this results in unrestricted competition in Department-wide procurements for Construction NAICS Subsector 233 (SIC Major Group 15), NAICS Subsector 234 (SIC Major Group 16), NAICS Subsector 235 (SIC Major Group 17), Refuse Systems and Related Services, and for East Coast FSC J998 in the Non-Nuclear Ship Repair, NAICS 336611 (SIC 3731). Unrestricted competition is also in effect for the Army and Air Force for West Coast FSC J999 in the Non-Nuclear Ship Repair, NAICS 336611 (SIC 3731).

Consistent with the revised final policy directive and implementation plan, this reinstatement of set-asides and unrestricted competition will be reviewed annually for continuation.

Michele P. Peterson,
Executive Editor, Defense Acquisition Regulations Council.

[FR Doc. 01-21465 Filed 8-23-01; 8:45 am]

BILLING CODE 5000-04-M